SECURITIES AND EXCHANGE COMMISSION

Sunshine Act Meeting

Federal Register citation of previous announcement: [73 FR 17386, April 1, 2008].

Status: Closed Meeting.

Place: 100 F Street, NE., Washington, DC.

Date and Time of Previously Announced Meeting: Wednesday, April 2, 2008 at 10 a.m.

Change In the Meeting: Cancellation of Meeting.

The Closed Meeting scheduled for Wednesday, April 2, 2008 has been cancelled.

For further information please contact the Office of the Secretary at (202) 551-5400.

Dated: April 1, 2008.
Nancy M. Morris,
Secretary.

[FR Doc. E8-7069 Filed 4-3-08; 8:45 am]

BILLING CODE 8011-01-P